DEPARTMENT OF LABOR

Employment and Training Administration

[TA-W-91,211; TA-W-91,211A]

D+H USA Corporation, a Subsidiary of DH Corporation, Including On-Site Leased Workers From Alexander Connections, LLC and Volt, Including Workers Whose Unemployment Insurance (UI) Wages Are Reported Through Harland Financial Solutions, Inc., Portland, Oregon; D+H USA Corporation, a Subsidiary of DH Corporation, Including On-Site Leased Workers From Volt, Bothell, Washington; Amended Certification Regarding Eligibility To Apply for Worker Adjustment Assistance

In accordance with section 223 of the Trade Act of 1974, as amended (“Act”), 19 U.S.C. 2273, the Department of Labor issued a Certification of Eligibility to Apply for Worker Adjustment Assistance on February 23, 2016, applicable to workers of D+H USA Corporation, a subsidiary of DH Corporation, including on-site leased workers from Alexander Connections, LLC and Volt, Portland, Oregon (TA-W-91,211) and D+H USA Corporation, a subsidiary of DH Corporation, including on-site leased workers from Volt, Bothell, Washington (TA-W-91,211A).

At the request of State Workforce Office, the Department reviewed the certification for workers of the subject firm. The workers are engaged in the supply of client support, research and development and technical operations services.

New information shows that workers separated from employment at D+H USA Corporation, a subsidiary of DH Corporation, Portland, Oregon had their wages reported through a separate unemployment insurance (UI) tax account under the name Harland Financial Solutions, Inc. Harland Financial Solutions, Inc. changed its name to D+H USA Corporation.

The intent of the Department's certification is to include all workers of the subject firm who were adversely affected by an acquisition of services from a foreign country of the supply of client support, research and development and technical operations services.

Accordingly, the Department is amending this certification to properly reflect this matter.

The amended notice applicable to TA-W-91,211 and TA-W-91,211A is hereby issued as follows:

All workers of D+H USA Corporation, a subsidiary of DH Corporation, including on-site leased workers from Alexander Connections, LLC and Volt, including workers whose unemployment insurance (UI) wages are reported through Harland Financial Solutions, Inc., Portland, Oregon (TA-W-91,211) and D+H USA Corporation, a subsidiary of DH Corporation, including on-site leased workers from Volt, Bothell, Washington (TA-W-91,211A) who became totally or partially separated from who became totally or partially separated from employment on or after December 10, 2014, through February 23, 2018, and all workers in the group threatened with total or partial separation from employment on date of certification through two years from the date of certification, are eligible to apply for adjustment assistance under Chapter 2 of Title II of the Trade Act of 1974, as amended.

Signed in Washington, DC, this 27th day of June 2016.
Jessica R. Webster,
Certifying Officer, Office of Trade Adjustment Assistance.

[FR Doc. 2016-16831 Filed 7-15-16; 8:45 am]

BILLING CODE P